ENVIRONMENTAL PROTECTION AGENCY

40 CFR Part 300

Addition of a Subsurface Intrusion Component to the Hazard Ranking System

CFR Correction

In Title 40 of the Code of Federal Regulations, Parts 300 to 399, revised as of July 1, 2017, on page 110, in the Table of Contents to Appendix A to Part 300, revise the following headings:

Appendix A to Part 300—The Hazard Ranking System

Table of Contents

* * * * *

7.1.1 Observed release/observed contamination/observed exposure.

7.1.2 Potential to release/potential for exposure.

* * * * *

7.2.3 Persistence/degradation.

* * * * *

7.3.3 Weighting of targets within an area of subsurface contamination.

* * * * *

List of Figures, Figure number

* * * * *

5-1 Overview of the soil exposure and subsurface intrusion pathway.

* * * * *

List of Tables, Table number

* * * * *

5-1 Soil exposure component scoresheet.

5-2 Hazardous waste quantity evaluation equations for soil exposure component.

* * * * *

5-11 Subsurface intrusion component scoresheet.

5-12 Structure containment.

5-13 Depth to contamination.

5-14 Effective porosity/permeability of geological materials.

5-15 Vertical migration factor values.

5-16 Values for vapor pressure and Henry's constant.

5-17 Vapor migration potential factor values for a hazardous substance.

5-18 Degradation factor value table.

5-19 Hazardous waste quantity evaluation equations for subsurface intrusion component.

5-20 Health-based benchmarks for hazardous substances in the subsurface intrusion component.

5-21 Weighting factor values for populations within an area of subsurface contamination.

* * * * *

[FR Doc. 2018-01971 Filed 1-30-18; 8:45 am]

BILLING CODE 1301-00-D